DEPARTMENT OF TRANSPORTATION

Federal Aviation Administration

Seventh Meeting: RTCA Special Committee 219: Attitude and Heading Reference System

AGENCY: Federal Aviation Administration (FAA), DOT.

ACTION: Notice of RTCA Special Committee 219 meeting: Attitude and Heading Reference System.

SUMMARY: The FAA is issuing this notice to advise the public of a meeting of RTCA Special Committee 219: Attitude and Heading Reference System.

DATES: The meeting will be held September 20-22, 2011, from 9 a.m. to 5 p.m., unless stated otherwise.

ADDRESSES: The meeting will be held at RTCA, Inc., 1150 18th Street NW., Suite 910, Washington, DC 20036. For hotel information please view the following Web site: http://www.rtca.org/directions/directions.asp#hotels.

FOR FURTHER INFORMATION CONTACT: RTCA Secretariat, 1150 18th Street NW., Suite 910, Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 219, Attitude and Heading Reference System.

Agenda

Tuesday September 20-Thursday, September 22, 2011

Tuesday, September 20, 2011

• Introductions and Administrative Items;

• Review of Meeting Agenda;

• Review and approval of summary from the sixth plenary meeting RTCA paper No. 123-11/SC219-012;

• Review minutes from last working group meeting;

• Review current state of draft MOPS document prior to moving into working group sessions;

• Plan working group sessions.

Wednesday, September 21, 2011

• Working group sessions.

Thursday, September 22, 2011

• Reassemble draft MOPS document after working group inputs;

• List changes for the pre-FRAC document;

• Consider and approve draft MOPS document for final review and comment (FRAC);

• Administrative items (meeting schedule, location, and next meeting agenda);

• Any other business;

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2011.
Robert L. Bostiga,
RTCA Advisory Committee.

[FR Doc. 2011-20745 Filed 8-15-11; 8:45 am]

BILLING CODE 4910-13-P